DEPARTMENT OF COMMERCE

National Oceanic and Atmospheric Administration

RIN 0648-XA320

South Atlantic Fishery Management Council; Public Meetings

AGENCY: National Marine Fisheries Service (NMFS), National Oceanic and Atmospheric Administration, Commerce.

ACTION: Notice of public hearing series.

SUMMARY: The South Atlantic Fishery Management Council (Council) will hold a series of public hearings regarding Amendment 18 to Coastal Migratory Pelagic Fishery Management Plan (FMP) for the Gulf of Mexico and South Atlantic Region and Amendment 10 to the Spiny Lobster FMP for the Gulf and South Atlantic Region. Public hearings in Duck Key and Key West, Florida are joint hearings with the Gulf of Mexico Fishery Management Council. See SUPPLEMENTARY INFORMATION.

DATES: The series of 7 public hearings will be held April 11, 2011 through April 20, 2011. The hearings will be held from 5 p.m. until 7 p.m. Council staff will present an overview of each amendment and will be available for informal discussions and to answer questions. Members of the public will have an opportunity to go on record at any time during the meeting hours to record their comments on the public hearing topics for consideration by both Councils. Local Council representatives will attend the meetings and take public comment. Written comments will be accepted from March 25, 2011 until 5 p.m. on April 29, 2011. See SUPPLEMENTARY INFORMATION.

ADDRESSES: See SUPPLEMENTARY INFORMATION for locations of the hearings. Written comments should be sent to Bob Mahood, Executive Director, South Atlantic Fishery Management Council, 4055 Faber Place Drive, Suite 201, North Charleston, SC 29405, or via e-mail to: MackAmend18Comment@safmc.net for Amendment 18 to the Coastal Migratory Pelagic FMP; and SpinyLobAmend10Comment@safmc.net for Amendment 10 to the Spiny Lobster FMP. Written comments will be received from March 25, 2011 until 5 p.m. on April 29, 2011.

Copies of the public hearing documents are available by contacting Kim Iverson, Public Information Officer, South Atlantic Fishery Management Council, 4055 Faber Place Drive, Suite 201, North Charleston, SC 29405; telephone: (843) 571-4366 or toll free at (866) SAFMC-10. Copies will also be available online at http://www.safmc.net as they become available.

FOR FURTHER INFORMATION CONTACT: Kim Iverson, South Atlantic Fishery Management Council, 4055 Faber Place Drive, Suite 201, North Charleston, SC 29405; telephone: (843) 571-4366; fax: (843) 769-4520; e-mail address: kim.iverson@safmc.net.

SUPPLEMENTARY INFORMATION: Amendment 18 to the Coastal Migratory Pelagics FMP addresses management measures for both Gulf and South Atlantic migratory groups of king mackerel, Spanish mackerel and cobia. The amendment addresses establishment of Annual Catch Limits and accountability measures for these species as required by the Magnuson-Stevens Fishery Conservation and Management Act (Magnuson-Stevens Act). The amendment also includes alternatives for: Modifications to the Fishery Management Unit (FMU), framework procedures to incorporate stock assessment information to allow adjustments for a greater range of management measures, establishment of separate migratory groups of cobia (between the Gulf and South Atlantic), sector allocations, and possible bag limit reductions.

Amendment 10 to the Spiny Lobster FMP for the Gulf and South Atlantic Regions also establishes ACLs and AMs for Caribbean spiny lobster as required by the Magnuson-Stevens Act and contains additional alternatives addressing: Modifications to the FMU, updates to protocol for Enhanced Cooperative Management, regulations regarding the possession of undersized lobsters or “shorts” as attractants for the commercial trap fishery, requirements for tailing permits, sector allocations, limiting spiny lobster fishing in some areas to protect threatened Acropora corals, and requirements for gear marking for trap lines.

Public Hearing and Scoping Meeting Schedule

1. April 11, 2011—Hilton New Bern/Riverfront, 100 Middle Street, New Bern, NC 28560; telephone: (252) 638-3585;

2. April 12, 2011—Hilton Garden Inn, 5265 International Boulevard, North Charleston, SC 29418; telephone: (843) 308-9330;

3. April 13, 2011—Mighty Eighth Air Force Museum, 175 Bourne Avenue, Pooler, GA 31322; telephone: (912) 748-8888;

4. April 14, 2011—Crowne Plaza Jacksonville Riverfront, 1201 Riverplace Boulevard, Jacksonville, FL 32207; telephone: (904) 398-8800;

5. April 18, 2011—Radisson Resort at the Port, 8701 Astronaut Boulevard, Cape Canaveral, FL 32920; telephone: (321) 784-0000;

6. April 19, 2011—Hawks Cay Resort, 61 Hawks Cay Boulevard, Duck Key, FL 33050; telephone: (305) 743-7000; and

7. April 20, 2011—Doubletree Grand Key, 3990 South Roosevelt Boulevard, Key West, FL 33040; telephone: (305) 293-1818.

Special Accommodations

These meetings are physically accessible to people with disabilities. Requests for sign language interpretation or other auxiliary aids should be directed to the Council office (see ADDRESSES) 3 days prior to the start of each meeting.

Dated: March 22, 2011.
Tracey L. Thompson,
Acting Director, Office of Sustainable Fisheries, National Marine Fisheries Service.

[FR Doc. 2011-7083 Filed 3-24-11; 8:45 am]

BILLING CODE 3510-22-P